DEPARTMENT OF JUSTICE

Notice of Lodging of Consent Decree Under the Comprehensive Environmental Response, Compensation, and Liability Act

Notice is hereby given that on February 3, 2000, a complaint and a proposed consent decree in United States v. Louis Nowakowski and Secure-All, Inc., Civil Action No. 00-CV-00240, were lodged with the United States District Court for the District of Columbia.

In this action, the United States seeks recovery of approximately $5.2 million in unreimbursed response costs incurred in relation to the RAMP Industries Site, located in northwest Denver, Colorado under Section 107(a) of the Comprehensive Environmental Response, Compensation, and Liability Act. Under the proposed decree, the defendants will pay the sum of $120,000 over a three year period. The settlement sum is based upon the financial inability of these defendants to pay more.

The Department of Justice will receive for a period of thirty (30) days from the date of this publication comments relating to the proposed consent decree. Comments should be addressed to the Assistant Attorney General of the Environment and Natural Resources Division, Department of Justice, Washington, D.C. 20530, and should refer to United States v. Louis Nowakowski and Secure-All, Inc., D.J. Ref. 90-11-2-1290/1.

The proposed consent decrees may be examined at the Office of the United States Attorney, 1961 Stout Street, 11th Floor, Drawer 3608, Denver, CO 80294; and at the U.S. EPA Region VIII, 999 18th Street, Denver, Colorado 80202. A copy of the proposed consent decree may be obtained by mail from the Department of Justice Consent Decree Library, P.O. Box 7611, Washington, D.C. 20044. In requesting a copy, please enclose a check in the amount of $5.25 (25 cents per page reproduction cost) payable to the Consent Decree Library.

Joel M. Gross,
Chief, Environmental Enforcement Section, Environment and Natural Resources Division.

[FR Doc. 00-4402 Filed 2-24-00; 8:45 am]

BILLING CODE 4410-15-M